INTERNATIONAL TRADE COMMISSION

[Investigation No. 731-TA-469 (Review)]

Electroluminescent Flat Panel Displays From Japan

Determination

On the basis of the record ¹ developed in the subject five-year review, the United States International Trade Commission determines, pursuant to section 751(c) of the Tariff Act of 1930 (19 U.S.C. 1675(c)), that revocation of the antidumping duty order on electroluminescent flat panel displays from Japan would be likely to lead to continuation or recurrence of material injury to an industry in the United States within a reasonably foreseeable time.²

¹ The record is defined in sec. 207.2(f) of the Commission's Rules of Practice and Procedure (19 CFR 207.2(f)).

² Commissioners Askey and Okun dissenting. Vice Chairman Miller did not participate in this five-year review.

Background

The Commission instituted this review on August 2, 1999 (64 FR 41951, August 2, 1999) and determined on November 4, 1999 that it would conduct an expedited review (64 FR 62688, November 17, 1999). The Commission transmitted its determination in this review to the Secretary of Commerce on March 27, 2000. The views of the Commission are contained in USITC Publication 3285 (March 2000), entitled Electroluminescent Flat Panel Displays from Japan: Investigation No. 731-TA-469 (Review).

Issued: March 27, 2000.
By order of the Commission.
Donna R. Koehnke,
Secretary.

[FR Doc. 00-7833 Filed 3-29-00; 8:45 am]

BILLING CODE 7020-02-P